DEPARTMENT OF AGRICULTURE

Food Safety and Inspection Service

RIN 0583-AD39

[Docket Number FSIS-2015-0006]

Effective Date for Foreign Inspection Certificate Requirements

AGENCY: Food Safety and Inspection Service, USDA.

ACTION: Notice.

SUMMARY: The Food Safety and Inspection Service (FSIS) is extending the effective date for foreign inspection certificate requirements to March 18, 2015, to ensure that countries have sufficient time to adjust to the new requirements for additional product information.

DATES: Compliance date: Foreign Inspection certificate requirements: March 18, 2015.

FOR FURTHER INFORMATION CONTACT: For further information contact Dan Engeljohn, Assistant Administrator, Office of Policy and Program Development, FSIS, U.S. Department of Agriculture, 1400 Independence Avenue SW., Washington, DC 20250-3700, (202) 205-0495.

SUPPLEMENTARY INFORMATION:

Background

On September 19, 2014, FSIS published a final rule, “Electronic Import Inspection Application and Certification of Imported Products and Foreign Establishments; Amendments to Facilitate the Public Health Information System (PHIS) and Other Changes to Import Inspection Regulations” (79 FR 56220). The final rule amended the meat, poultry, and egg products import regulations to provide for the Agency's Public Health Information System (PHIS) Import Component. The rule also removed from the regulations the discontinued “streamlined” import inspection procedures for Canadian product and required Sanitation Standard Operating Procedures (SOPs) at official import inspection establishments. In addition, the rule amended the regulations to delete overly prescriptive formatting and narrative requirements for foreign inspection certificates and to make the certificate requirements the same for imported meat, poultry, and egg products. The Agency also proposed to require additional information on the foreign inspection certificate so it would have complete foreign product information.

The effective date of the final rule was November 18, 2014. However, to ensure that foreign countries have sufficient time to adjust to the new requirements for certifying the additional product information on foreign inspection certificates, FSIS will allow countries to continue using existing inspection certificates until March 18, 2015. FSIS announced the March 18, 2015, effective date for foreign inspection certificates in a Constituent Update that published on October 31, 2014 (http://www.fsis.usda.gov/wps/portal/fsis/newsroom/meetings/newsletters/constituent-updates/archive/2014/ConstUpdate103114). In addition, in a letter issued to foreign countries, the Agency advised that it would allow countries to continue using existing foreign inspection certificates until March 18, 2015 (http://www.fsis.usda.gov/wps/wcm/connect/3c9c0fa4-fa3c-4ae1-bfb0-0286623009f2/Import-Rule-Letter-to-Foreign-Gov.pdf?MOD=AJPERES.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How to File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.), should contact USDA's TARGET Center at (202) 720-2600 (voice and TDD).

Done, at Washington, DC on: March 9, 2015.
Alfred V. Almanza,
Acting Administrator.

[FR Doc. 2015-05670 Filed 3-11-15; 8:45 am]

BILLING CODE 3410-DM-P